DEPARTMENT OF AGRICULTURE

Food Safety and Inspection Service

[Docket No. FSIS-2006-0041]

Codex Alimentarius Commission: Meeting of the Codex Committee on Fats and Oils

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on January 23, 2007. The objective of the public meeting is to provide information and receive public comments on agenda items and draft United States positions that will be discussed at the Twentieth Session of the Codex Committee on Fats and Oils (CCFO) of the Codex Alimentarius Commission (Codex), which will be held in London, United Kingdom, from February 19-23, 2007. The Under Secretary for Food Safety and FDA recognize the importance of providing interested parties the opportunity to obtain background information on the 20th Session of CCFO and to address items on the agenda.

DATES: The public meeting is scheduled for Tuesday, January 23, 2007 from 2 p.m. to 4 p.m.

ADDRESSES: The public meeting will be held in the rear of the Cafeteria, South Agriculture Building, United States Department of Agriculture, 1400 Independence Avenue SW., Washington, DC 20250. Documents related to the 20th Session of the CCFO will be accessible via the World Wide Web at the following address: http://www.codexalimentarius.net/current.asp.

The U.S. Delegate to the 20th Session of the CCFO, Dr. Dennis Keefe of FDA, invites U.S. interested parties to submit their comments electronically to the following e-mail address (Dennis.Keefe@fda.hhs.gov).

Registration

There is no need to pre-register for this meeting. To gain admittance to this meeting, individuals must present a photo ID for identification. When arriving for the meeting, please enter the South Building through the Second Wing entrance on “C” Street SW.

For Further Information About the 20th Session of the CCFO Contact: Dr. Dennis Keefe, the U.S. Delegate to the 20th Session of the CCFO, FDA, Center for Food Safety and Applied Nutrition, Harvey W. Wiley Federal Building, 5100 Paint Branch Parkway, College Park, MD 20740-3835, Phone: (301) 436-1284, Fax: (301) 436-2972. E-mail: Dennis.Keefe@fda.hhs.gov.

For Further Information About the Public Meeting Contact: Amjad Ali, International Issues Analyst, U.S. Codex Office, Food Safety and Inspection Service, Room 4861, South Building, 1400 Independence Avenue, SW., Washington, DC 20250, Phone: (202) 205-7760, Fax: (202) 720-3157.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The Codex Committee on Fats and Oils was established to elaborate codes, standards and related texts for fats and oils. The Committee is hosted by the United Kingdom.

Issues To Be Discussed at the Public Meeting

The following items on the Agenda for the 20th Session of the Committee will be discussed during the public meeting:

• Matters Referred to the Committee from the Other Codex Bodies.

• Draft Standard for Fat Spreads and Blended Spreads: Section on Food Additives.

• Draft Amendment to the Standard for Named Vegetable Oils: Inclusion of Rice Bran Oil.

• Draft Amendment to the Standard for Named Vegetable Oils: Amendment to Total Carotenoids in Unbleached Palm Oil.

• Code of Practice for Storage and Transport of Edible Fats and Oils in Bulk: Draft List of Acceptable Previous Cargoes.

• Consideration of the Linolenic Acid Level in Section 3.9 of the Standard for Olive Oils and Olive Pomace Oils.

• Consideration of Proposals for Amendments to the Standard for Named Vegetable Oils: Palm Kernel Stearin and Palm Kernel Olein.

• Criteria for the Revision of the Standard for Named Vegetable Oils.

Each issue listed will be fully described in documents distributed, or to be distributed, by the Secretariat prior to the Meeting. Members of the public may access or request copies of these documents (see ADDRESSES).

Public Meeting

At the January 23, 2007 public meeting, draft U.S. positions on the agenda items will be described, discussed, and attendees will have the opportunity to pose questions and offer comments. Written comments may be offered at the meeting or sent to the U.S. Delegate for the 20th Session of CCFO, Dr. Dennis Keefe (see ADDRESSES). Written comments should state that they relate to activities of the 20th Session of the CCFO.

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on December 12, 2006.
F. Edward Scarbrough,
U.S. Manager for Codex Alimentarius.

[FR Doc. E6-21371 Filed 12-15-06; 8:45 am]

BILLING CODE 3410-DM-P